DEPARTMENT OF THE INTERIOR

National Park Service

36 CFR Part 2

[NPS-WASO-AILO-15846; PCU00RP14.R50000, PPWOCRADI0]

RIN 1024-AD84

Gathering of Certain Plants or Plant Parts by Federally Recognized Indian Tribes for Traditional Purposes—Reopening of Public Comment Period

AGENCY: National Park Service, Interior.

ACTION: Proposed rule; Reopening of Public Comment Period.

SUMMARY: The National Park Service is reopening the public comment period for the proposed rule to amend its regulations to authorize agreements between the National Park Service and federally recognized Indian tribes to allow the gathering and removal of plants or plant parts by designated tribal members for traditional purposes. Reopening the comment period for 45 days will allow more time for the public to review the proposal and submit comments.

DATES: The comment period for the proposed rule published on April 20, 2015 (80 FR 21674), is reopened. Comments must be received by 11:59 p.m. EST on September 28, 2015.

ADDRESSES: You may submit comments by either of the following methods:

• Federal eRulemaking Portal: http://www.regulations.gov. Follow the instructions for submitting comments.

• Mail: National Park Service, Joe Watkins, Office of Tribal Relations and American Cultures, 1201 Eye Street NW., Washington, DC 20005.

Instructions: All submissions must include the words “National Park Service” or “NPS” and must include the Regulation Identifier Number 1024-AD84 for this rulemaking.

FOR FURTHER INFORMATION CONTACT: National Park Service, Joe Watkins, Office of Tribal Relations and American Cultures, 1201 Eye Street NW., Washington, DC 20005, 202-354-2126, joe_watkins@nps.gov.

SUPPLEMENTARY INFORMATION: On April 20, 2015, the National Park Service (NPS) published in the Federal Register (80 FR 21674) a proposed rule to amend its regulations authorize agreements between the NPS and federally recognized Indian tribes to allow the gathering and removal of plants or plant parts by designated tribal members for traditional purposes. The 90-day public comment period for this proposal closed on July 20, 2015. In order to give the public additional time to review and comment on the proposal, we are reopening the public comment period from August 12, 2015 through September 28, 2015. If you already commented on the proposed rule you do not have to resubmit your comments.

To view comments received through the Federal eRulemaking portal, go to http://www.regulations.gov/ and enter 1024-AD84 in the search box. Before including your address, phone number, email address, or other personal identifying information in your comment, you should be aware that your entire comment—including your personal identifying information—may be made publicly available at any time. While you can ask us in your comment to withhold your personal identifying information, we cannot guarantee that we will be able to do so.

Dated: August 5, 2015.
Michael Bean,
Principal Deputy Assistant Secretary for Fish and Wildlife and Parks.

[FR Doc. 2015-19717 Filed 8-11-15; 8:45 am]

BILLING CODE 4310-EJ-P